DEPARTMENT OF THE TREASURY

Office of Foreign Assets Control

Unblocking of Thirteen Specially Designated Nationals Pursuant to Executive Order 13224

AGENCY: Office of Foreign Assets Control, Treasury.

ACTION: Notice.

SUMMARY: The Treasury Department's Office of Foreign Assets Control (“OFAC”) is removing the names of ten entities and three individuals from the list of Specially Designated Nationals and Blocked Persons whose property and interests in property have been blocked pursuant to Executive Order 13224 of September 23, 2001, Blocking Property and Prohibiting Transactions With Persons Who Commit, Threaten To Commit, or Support Terrorism.

DATES: The removal of ten entities and three individuals from the list of Specially Designated Nationals and Blocked Persons whose property and interests in property have been blocked pursuant to Executive Order 13224 is effective as of Wednesday, September 1, 2010.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On September 23, 2001, the President issued Executive Order 13224 (the “Order”) pursuant to the International Emergency Economic Powers Act, 50 U.S.C. 1701-1706, and the United Nations Participation Act of 1945, 22 U.S.C. 287c, imposing economic sanctions on persons who commit, threaten to commit, or support acts of terrorism. The President identified in the Annex to the Order various individuals and entities as subject to the economic sanctions. The Order authorizes the Secretary of the Treasury, in consultation with the Secretary of State, the Attorney General, and (pursuant to Executive Order 13284) the Secretary of the Department of Homeland Security, to designate additional persons or entities determined to meet certain criteria set forth in Executive Order 13224.

On April 19, 2002, one additional person and, on August 28, 2002, twelve additional entities were designated by the Secretary of the Treasury. The Department of the Treasury's Office of Foreign Assets Control has determined that these ten entities and three individuals no longer meet the criteria for designation under the Order and are appropriate for removal from the list of Specially Designated Nationals and Blocked Persons.

The following designations are removed from the list of Specially Designated Nationals and Blocked Persons:

AL-BARAKAAT WIRING SERVICE, 2940 Pillsbury Avenue, Suite 4, Minneapolis, MN 55408 [SDGT].

AL-NUR HONEY PRESS SHOPS (a.k.a. AL-NUR HONEY CENTER), Sanaa, Yemen [SDGT].

AL-KADR, Ahmad Sa'id (a.k.a. AL-KANADI, Abu Abd Al-Rahman); DOB 01 Mar 1948; POB Cairo, Egypt (individual) [SDGT].

AL-SHIFA' HONEY PRESS FOR INDUSTRY AND COMMERCE, P.O. Box 8089, Al-Hasabah, Sanaa, Yemen; By the Shrine Next to the Gas Station, Jamal Street, Ta'iz, Yemen; Al-'Arudh Square, Khur Maksar, Aden, Yemen; Al-Nasr Street, Doha, Qatar [SDGT].

AWEYS, Dahir Ubeidullahi, Via Cipriano Facchinetti 84, Rome, Italy (individual) [SDGT].

BARAKAAT BOSTON, 266 Neponset Ave., Apt. 43, Dorchester, MA 02122-3224 [SDGT].

BARAKAAT CONSTRUCTION COMPANY, P.O. Box 3313, Dubai, United Arab Emirates [SDGT].

BARAKAAT INTERNATIONAL, INC., 1929 South 5th Street, Suite 205, Minneapolis, MN [SDGT].

BARAKAT WIRE TRANSFER COMPANY, 4419 S. Brandon St., Seattle, WA [SDGT].

EL MAHFOUDI, Mohamed, via Puglia, n. 22, Gallarate, Varese, Italy; DOB 24 Sep 1964; POB Agadir, Morocco; Italian Fiscal Code LMHMMD64P24Z330F; Residence, Agadir, Morocco (individual) [SDGT].

PARKA TRADING COMPANY, P.O. Box 3313, Deira, Dubai, United Arab Emirates [SDGT].

SOMALI INTERNATIONAL RELIEF ORGANIZATION, 1806 Riverside Ave., 2nd Floor, Minneapolis, MN [SDGT].

SOMALI NETWORK AB (a.k.a. SOM NET AB), Hallbybacken 15, Spanga 70, Sweden [SDGT].

The removal of these ten entities and three individuals' names from the list of Specially Designated Nationals and Blocked Persons is effective as of Wednesday, September 1, 2010. All property and interests in property of the three individuals that are in or hereafter come within the United States or the possession or control of United States persons are now unblocked.

Dated: September 1, 2010.
Adam J. Szubin,
Director, Office of Foreign Assets Control.

[FR Doc. 2010-22235 Filed 9-7-10; 8:45 am]

BILLING CODE 4810-AL-P